ENVIRONMENTAL PROTECTION AGENCY

40 CFR Part 52

[AL-200822; FRL-8759-9]

Approval and Promulgation of Air Quality Implementation Plans; Alabama; Update to Materials Incorporated by Reference

AGENCY: Environmental Protection Agency (EPA).

ACTION: Final rule; notice of administrative change.

SUMMARY: EPA is publishing this action to provide the public with notice of the update to the Alabama State Implementation Plan (SIP) compilation. In particular, materials submitted by Alabama that are incorporated by reference (IBR) into the Alabama SIP are being updated to reflect EPA-approved revisions to Alabama's SIP that have occurred since the last update. In this action EPA is also notifying the public of the correction of certain typographical errors.

DATES: This action is effective March 18, 2009.

ADDRESSES: SIP materials which are incorporated by reference into 40 CFR part 52 are available for inspection at the following locations: Environmental Protection Agency, Region 4, 61 Forsyth Street, SW., Atlanta, GA 30303; the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal-register/cfr/ibr-locations.html.

FOR FURTHER INFORMATION CONTACT: Ms. Stacy Harder at the above Region 4 address or at (404) 562-9042.

SUPPLEMENTARY INFORMATION: Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the SIP to EPA. Once these control measures and strategies are approved by EPA, after notice and comment, they are incorporated into the federally approved SIP and are identified in part 52 “Approval and Promulgation of Implementation Plans,” Title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on SIP revisions containing new and/or revised regulations as being part of the SIP. On May 22, 1997 (62 FR 27968), EPA revised the procedures for incorporating by reference, into the CFR, materials submitted by states in their EPA-approved SIP revisions. These changes revised the format for the identification of the SIP in 40 CFR part 52, stream-lined the mechanisms for announcing EPA approval of revisions to a SIP, and stream-lined the mechanisms for EPA's updating of the IBR information contained for each SIP in 40 CFR part 52. The revised procedures also called for EPA to maintain “SIP Compilations” that contain the federally approved regulations and source specific permits submitted by each state agency. These SIP Compilations are contained in 3-ring binders and are updated primarily on an annual basis. Under the revised procedures, EPA is to periodically publish an informational document in the rules section of the Federal Register when updates are made to a SIP Compilation for a particular state. EPA's 1997 revised procedures were formally applied to Alabama on December 22, 1998 (63 FR 70669).

This action represents EPA's publication of the Alabama SIP Compilation update, appearing in 40 CFR part 52. In addition, notice is provided of the following typographical corrections to Table (c) of paragraph 52.50, as described below:

1. Correcting typographical errors listed in Table 1 of paragraph 52.50(c), as described below:

A. Section 335-3-14-.03 State Effective Date is revised to read “08/10/00.”

B. Section 335-3-14-.03 EPA Approval Date is revised to read “12/8/00.”

C. Section 335-3-14-.05 EPA Approval Date is revised to read “12/8/00.”

D. Section 335-3-15-.02 EPA Approval Date is revised to read “12/8/00.”

2. Revising the date format listed in paragraphs 52.50(c), and (e) in the “state effective date,” and “EPA approval date,” columns for consistency. Dates are numerical month/day/year without additional zeros.

EPA has determined that today's action falls under the “good cause” exemption in the section 553(b)(3)(B) of the Administrative Procedure Act (APA) which, upon finding “good cause,” authorizes agencies to dispense with public participation and section 553(d)(3) which allows an agency to make an action effective immediately (thereby avoiding the 30-day delayed effective date otherwise provided for in the APA). Today's administrative action simply codifies provisions which are already in effect as a matter of law in Federal and approved state programs and corrects typographical errors appearing the Federal Register. Under section 553 of the APA, an agency may find good cause where procedures are “impractical, unnecessary, or contrary to the public interest.” Public comment for this administrative action is “unnecessary” and “contrary to the public interest” since the codification (and typographical corrections) only reflects existing law. Immediate notice of this action in the Federal Register benefits the public by providing the public notice of the updated Alabama SIP Compilation and notice of typographical corrections to the Alabama “Identification of Plan” portion of the Federal Register.

Statutory and Executive Order Reviews:

A. General Requirements

Under Executive Order 12866 (58 FR 51735, October 4, 1993), this administrative action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the Agency has made a “good cause” finding that this action is not subject to notice-and-comment requirements under the APA or any other statute as indicated in the Supplementary Information section above, it is not subject to the regulatory flexibility provisions of the Regulatory Flexibility Act (5 U.S.C 601 et seq.), or to sections 202 and 205 of the Unfunded Mandates Reform Act (UMRA) of 1995 (Pub. L. 104-4). In addition, this action does not significantly or uniquely affect small governments or impose a significant intergovernmental mandate, as described in sections 203 and 204 of UMRA. This administrative action also does not have a substantial direct effect on one or more Indian tribes, on the relationship between the Federal government and Indian tribes, or on the distribution of power and responsibilities between the Federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This administrative action also is not subject to Executive Order 13045 (62 FR 19885, April 23, 1997), because it is not economically significant. This administrative action does not involve technical standards; thus the requirements of section 12(d) of the National Technology Transfer and Advancement Act of 1995 (15 U.S.C. 272 note) do not apply. The administrative action also does not involve special consideration of environmental justice related issues as required by Executive Order 12898 (59 FR 7629, February 16, 1994). This administrative action does not impose an information collection burden under the Paperwork Reduction Act of 1995 (44 U.S.C. 3501 et seq.). EPA's compliance with these Statutes and Executive Orders for the underlying rules are discussed in previous actions taken on the State's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's administrative action simply codifies (and corrects) provisions which are already in effect as a matter of law in Federal and approved state programs. 5 U.S.C. 808(2). These announced actions were effective when EPA approved them through previous rulemaking actions. EPA will submit a report containing this action and other required information to the U.S. Senate, the U.S. House of Representatives, and the Comptroller General of the United States prior to publication of this action in the Federal Register. This update to Alabama's SIP Compilation and correction of typographical errors is not a “major rule” as defined by 5 U.S.C. 804(2).

C. Petitions for Judicial Review

EPA has also determined that the provisions of section 307(b)(1) of the Clean Air Act pertaining to petitions for judicial review are not applicable to this action. This action is simply an announcement of prior rulemakings that have previously undergone notice and comment rulemaking. Prior EPA rulemaking actions for each individual component of the Alabama SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 27, 2009.
A. Stanley Meiburg,
Acting Regional Administrator, Region 4.

40 CFR part 52, is amended as follows:

PART 52—[AMENDED]

1. The authority for citation for part 52 continues to read as follows:

Authority: 42 U.S.C. 7401 et seq.

Subpart B—Alabama

2. Section 52.50 paragraphs (b), (c) and (e) are revised to read as follows:

§ 52.50 Identification of plan.

* * * * *

(b) Incorporation by reference. (1) Material listed in paragraphs (c) and (d) of this section with an EPA approval date prior to August 1, 2008, for Alabama was approved for incorporation by reference by the Director of the Federal Register in accordance with 5 U.S.C. 552(a) and 1 CFR part 51. Material is incorporated as it exists on the date of the approval, and notice of any change in the material will be published in the Federal Register. Entries in paragraphs (c) and (d) of this section with EPA approval dates after August 1, 2008, for Alabama will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1).

(3) Copies of the materials incorporated by reference may be inspected at the Region 4 EPA Office at 61 Forsyth Street, SW., Atlanta, GA 30303 the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal-register/cfr/ibr-locations.html.

(c) EPA Approved Alabama Regulations.

EPA Approved Alabama Regulations
State citation | Title/subject | State effective date | EPA approval date | Explanation
Chapter No. 335-3-1 General Provision
Section 335-3-1-.01 | Purpose | 6/22/89 | 3/19/90; 55 FR 10062
Section 335-3-1-.02 | Definitions | 12/12/05 | 10/11/06; 71 FR 59676
Section 335-3-1-.03 | Ambient Air Quality Standards | 10/13/98 | 3/01/99; 64 FR 9918
Section 335-3-1-.04 | Monitoring, Records, and Reporting | 10/15/96 | 6/06/97; 62 FR 30991
Section 335-3-1-.05 | Sampling and Test Methods | 6/22/89 | 3/19/90; 55 FR 10062
Section 335-3-1-.06 | Compliance Schedule | 10/15/96 | 6/06/97; 62 FR 30991
Section 335-3-1-.07 | Maintenance and Malfunctioning of Equipment; Reporting | 10/15/89 | 3/19/90; 55 FR 10062
Section 335-3-1-.08 | Prohibition of Air Pollution | 8/10/00 | 12/8/00; 65 FR 76940
Section 335-3-1-.09 | Variances | 10/15/96 | 6/6/97; 62 FR 30991
Section 335-3-1-.10 | Circumvention | 6/22/89 | 3/19/90; 55 FR 10062
Section 335-3-1-.11 | Severability | 10/15/96 | 6/6/97; 62 FR 30991
Section 335-3-1-.12 | Bubble Provision | 6/22/89 | 3/19/90; 55 FR 10062
Section 335-3-1-.13 | Credible Evidence | 4/13/99 | 11/3/99; 64 FR 59633
Section 335-3-1-.14 | Emissions Reporting Requirements Relating to Budgets for NOX Emissions | 4/6/01 | 7/16/01; 66 FR 36921
Section 335-3-1-.15 | Emissions Inventory Reporting Requirements | 4/3/03 | 4/24/03; 68 FR 20077
Chapter No. 335-3-2 Air Pollution Emergency
Section 335-3-2-.01 | Air Pollution Emergency | 6/22/89 | 3/19/90; 55 FR 10062
Section 335-3-2-.02 | Episode Criteria | 8/10/00 | 12/8/00; 65 FR 76940
Section 335-3-2-.03 | Special Episode Criteria | 6/22/89 | 3/19/90; 55 FR 10062
Section 335-3-2-.04 | Emission Reduction Plans | 6/22/89 | 3/19/90; 55 FR 10062
Section 335-3-2-.05 | Two Contaminant Episode | 6/22/89 | 3/19/90; 55 FR 10062
Section 335-3-2-.06 | General Episodes | 6/22/89 | 3/19/90; 55 FR 10062
Section 335-3-2-.07 | Local Episodes | 6/22/89 | 3/19/90; 55 FR 10062
Section 335-3-2-.08 | Other Sources | 10/15/96 | 6/6/97; 62 FR 30991
Section 335-3-2-.09 | Other Authority Not Affected | 6/22/89 | 3/19/90; 55 FR 10062
Chapter No. 335-3-3 Control of Open Burning and Incineration
Section 335-3-3-.01 | Open Burning | 4/4/06 | 6/22/06; 71 FR 35801
Section 335-3-3-.02 | Incinerators | 6/22/89 | 3/19/90; 55 FR 10062
Section 335-3-3-.03 | Incineration of Wood, Peanut, and Cotton Ginning Waste | 8/10/00 | 12/8/00; 65 FR 76940
Chapter No. 335-3-4 Control of Particulate Emissions
Section 335-3-4-.01 | Visible Emissions | 10/15/96 | 6/6/97; 62 FR 30991
Section 335-3-4-.02 | Fugitive Dust and Fugitive Emissions | 10/15/96 | 6/6/97; 62 FR 30991
Section 335-3-4-.03 | Fuel Burning Equipment | 10/15/96 | 6/6/97; 62 FR 30991
Section 335-3-4-.04 | Process Industries—General | 10/15/96 | 6/6/97; 62 FR 30991
Section 335-3-4-.05 | Small Foundry Cupola | 6/22/89 | 3/19/90; 55 FR 10062
Section 335-3-4-.06 | Cotton Gins | 6/22/89 | 3/19/90; 55 FR 10062
Section 335-3-4-.07 | Kraft Pulp Mills | 10/15/96 | 6/6/97; 62 FR 30991
Section 335-3-4-.08 | Wood Waste Boilers | 8/10/00 | 12/8/00; 65 FR 76940
Section 335-3-4-.09 | Coke Ovens | 8/10/00 | 12/8/00; 65 FR 76940
Section 335-3-4-.10 | Primary Aluminum Plants | 6/22/89 | 3/19/90; 55 FR 10062
Section 335-3-4-.11 | Cement Plants | 10/15/96 | 6/6/97; 62 FR 30991
Section 335-3-4-.12 | Xylene Oxidation Process | 6/22/89 | 3/19/90; 55 FR 10062
Section 335-3-4-.13 | Sintering Plants | 6/22/89 | 3/19/90; 55 FR 10062
Section 335-3-4-.14 | Grain Elevators | 10/15/96 | 6/6/97; 62 FR 30991
Section 335-3-4-.15 | Secondary Lead Smelters | 10/15/96 | 6/6/97; 62 FR 30991
Section 335-3-4-.16 | Reserved
Section 335-3-4-.17 | Steel Mills Located in Etowah County | 10/15/96 | 6/6/97; 62 FR 30991
Chapter No. 335-3-5 Control of Sulfur Compound Emissions
Section 335-3-5-.01 | Fuel Combustions | 10/15/96 | 6/6/97; 62 FR 30991
Section 335-3-5-.02 | Sulfuric Acid Plants | 10/15/96 | 6/6/97; 62 FR 30991
Section 335-3-5-.03 | Petroleum Production | 8/10/00 | 12/8/00; 65 FR 76940
Section 335-3-5-.04 | Kraft Pulp Mills | 8/10/00 | 12/8/00; 65 FR 76940
Section 335-3-5-.05 | Process Industries—General | 6/22/89 | 3/19/90; 55 FR 10062
Section 335-3-5-.06 | State Clean Air Interstate Rule (CAIR) SO2 Trading Program General Provisions | 4/3/07 | 10/1/07; 72 FR 55659
Section 335-3-5-.07 | CAIR Designated Representative for CAIR SO2 Sources | 4/3/07 | 10/1/07; 72 FR 55659
Section 335-3-5-.08 | Permits | 04/3/07 | 10/1/07; 72 FR 55659
Section 335-3-5-.11 | CAIR SO2 Allowance Tracking System | 04/3/07 | 10/1/07; 72 FR 55659
Section 335-3-5-.12 | CAIR SO2 Allowance Transfers | 4/3/07 | 10/1/07; 72 FR 55659
Section 335-3-5-.13 | Monitoring and Reporting | 4/3/07 | 10/1/07; 72 FR 55659
Section 335-3-5-.14 | CAIR SO2 Opt-in Units | 4/3/07 | 10/1/07; 72 FR 55659
Chapter No. 335-3-6 Control of Organic Emissions
Section 335-3-6-.01 | Applicability | 10/15/96 | 6/6/97; 62 FR 30991
Section 335-3-6-.02 | VOC Water Separation | 6/22/89 | 3/19/90; 55 FR 10062
Section 335-3-6-.03 | Loading and Storage of VOC | 6/22/89 | 3/19/90; 55 FR 10062
Section 335-3-6-.04 | Fixed-Roof Petroleum Liquid Storage Vessels | 10/15/96 | 6/6/97; 62 FR 30991
Section 335-3-6-.05 | Bulk Gasoline Plants | 10/15/96 | 6/6/97; 62 FR 30991
Section 335-3-6-.06 | Bulk Gasoline Terminals | 8/10/00 | 12/8/00; 65 FR 76940
Section 335-3-6-.07 | Gasoline Dispensing Facilities—Stage I | 10/15/96 | 6/6/97; 62 FR 30991
Section 335-3-6-.08 | Petroleum Refinery Sources | 6/22/89 | 3/19/90; 55 FR 10062
Section 335-3-6-.09 | Pumps and Compressors | 6/22/89 | 3/19/90; 55 FR 10062
Section 335-3-6-.10 | Ethylene Producing Plants | 6/22/89 | 3/19/90; 55 FR 10062
Section 335-3-6-.11 | Surface Coating | 10/15/96 | 6/6/97; 62 FR 30991
Section 335-3-6-.12 | Solvent Metal Cleaning | 10/15/96 | 06/6/97; 62 FR 30991
Section 335-3-6-.13 | Cutback Asphalt | 10/15/96 | 6/6/97; 62 FR 30991
Section 335-3-6-.14 | Petition for Alternative Controls | 6/22/89 | 3/19/90; 55 FR 10062
Section 335-3-6-.15 | Compliance Schedules | 10/15/96 | 6/6/97; 62 FR 30991
Section 335-3-6-.16 | Test Methods and Procedures | 8/10/00 | 12/8/00; 65 FR 76940
Section 335-3-6-.17 | Manufacture of Pneumatic Tires | 10/15/96 | 6/6/97; 62 FR 30991
Section 335-3-6-.18 | Manufacture of Synthesized Pharmaceutical Products | 10/15/96 | 6/6/97; 62 FR 30991
Section 335-3-6-.19 | Reserved
Section 335-3-6-.20 | Leaks from Gasoline Tank Trucks and Vapor Collection Systems | 10/15/96 | 6/6/97; 62 FR 30991
Section 335-3-6-.21 | Leaks from Petroleum Refinery Equipment | 10/15/96 | 6/6/97; 62 FR 30991
Section 335-3-6-.22 | Graphic Arts | 10/15/96 | 6/6/97; 62 FR 30991
Section 335-3-6-.23 | Petroleum Liquid Storage in External Floating Roof Tanks | 10/15/96 | 6/6/97; 62 FR 30991
Section 335-3-6-.24 | Applicability | 10/15/96 | 6/6/97; 62 FR 30991
Section 335-3-6-.25 | VOC Water Separation | 6/22/89 | 3/19/90; 55 FR 10062
Section 335-3-6-.26 | Loading and Storage of VOC | 6/22/89 | 3/19/90; 55 FR 10062
Section 335-3-6-.27 | Fixed-Roof Petroleum Liquid Storage Vessels | 10/15/96 | 6/6/97; 62 FR 30991
Section 335-3-6-.28 | Bulk Gasoline Plants | 10/15/96 | 6/6/97; 62 FR 30991
Section 335-3-6-.29 | Gasoline Terminals | 10/15/96 | 6/6/97; 62 FR 30991
Section 335-3-6-.30 | Gasoline Dispensing Facilities Stage 1 | 10/15/96 | 6/6/97; 62 FR 30991
Section 335-3-6-.31 | Petroleum Refinery Sources | 6/22/89 | 3/19/90; 55 FR 10062
Section 335-3-6-.32 | Surface Coating | 10/15/96 | 6/6/97; 62 FR 30991
Section 335-3-6-.33 | Solvent Metal Cleaning | 6/22/89 | 3/19/90; 55 FR 10062
Section 335-3-6-.34 | Cutback Asphalt | 10/15/96 | 6/6/97; 62 FR 30991
Section 335-3-6-.35 | Petition for Alternative Controls | 6/22/89 | 3/19/90; 55 FR 10062
Section 335-3-6-.36 | Compliances Schedules | 10/15/96 | 6/6/97; 62 FR 30991
Section 335-3-6-.37 | Test Methods and Procedures | 10/15/96 | 6/6/97; 62 FR 30991
Section 335-3-6-.38 | Manufacture of Pneumatic Tires | 6/22/89 | 3/19/90; 55 FR 10062
Section 335-3-6-.39 | Manufacture of Synthesized Pharmaceutical Products | 10/15/96 | 6/6/97; 62 FR 30991
Section 335-3-6-.40 | Reserved
Section 335-3-6-.41 | Leaks from Gasoline Tank Trucks and Vapor Collection Systems | 10/15/96 | 6/6/97; 62 FR 30991
Section 335-3-6-.42 | Leaks from Petroleum Refinery Equipment | 10/15/96 | 6/6/97; 62 FR 30991
Section 335-3-6-.43 | Graphic Arts | 6/22/89 | 3/19/90; 55 FR 10062
Section 335-3-6-.44 | Petroleum Liquid Storage in External Floating Roof Tanks | 10/15/96 | 6/6/97; 62 FR 30991
Section 335-3-6-.45 | Large Petroleum Dry Cleaners | 10/15/96 | 6/6/97; 62 FR 30991
Section 335-3-6-.46 | Aerospace Assembly and Component and Component Coatings Operation | 6/22/89 | 6/6/97; 62 FR 30991
Section 335-3-6-.47 | Leaks from Coke by-Product Recovery Plant Equipment | 10/15/96 | 6/6/97; 62 FR 30991
Section 335-3-6-.48 | Emissions from Coke by-Product Recovery Plant Coke Oven Gas Bleeder | 10/15/96 | 6/6/97; 62 FR 30991
Section 335-3-6-.49 | Manufacture of Laminated Countertops | 6/22/89 | 3/19/90; 55 FR 10062
Section 335-3-6-.50 | Paint Manufacture | 10/15/96 | 6/6/97; 62 FR 30991
Section 335-3-6-.53 | List of EPA Approved and Equivalent Test Methods and Procedures for the Purpose of Determining VOC Emissions | 6/26/91 | 9/27/91; 58 FR 50262
Chapter No. 335-3-7 Carbon Monoxide Emissions
Section 335-3-7-.01 | Metals Productions | 6/22/89 | 3/19/90; 55 FR 10062
Section 335-3-7-.02 | Petroleum Processes | 6/22/89 | 3/19/90; 55 FR 10062
Chapter No. 335-3-8 Nitrogen Oxides Emissions
Section 335-3-8-.01 | Standards for Portland Cement Kilns | 4/6/01 | 7/17/01; 66 FR 36921
Section 335-3-8-.02 | Nitric Acid Manufacturing | 10/15/96 | 6/6/97; 62 FR 30991
Section 335-3-8-.03 | NOX Emissions from Electric Utility Generating Units | 10/24/00 | 11/7/01; 66 FR 56223
Section 335-3-8-.04 | Standards for Stationary Reciprocating Internal Combustion Engines (Reserved) | 3/22/05 | 12/28/05; 70 FR 76694
Section 335-3-8-.05 | NOX Budget Trading Program | 4/3/07 | 10/1/07; 72 FR 55659
Section 335-3-8-.06 | Authorized Account Representative for NOX Budget Sources | 4/6/01 | 7/16/01; 66 FR 36921
Section 335-3-8-.07 | Permits | 4/6/01 | 7/16/01; 66 FR 36921
Section 335-3-8-.08 | Compliance Certification | 4/6/01 | 7/16/01; 66 FR 36921
Section 335-3-8-.09 | NOX Allowance Allocations | 4/6/01 | 7/16/01; 66 FR 36921
Section 335-3-8-.10 | NOX Allowance Tracking System | 4/3/07 | 10/1/07; 72 FR 55659
Section 335-3-8-.11 | NOX Allowance Transfers | 4/6/01 | 7/16/01; 66 FR 36921
Section 335-3-8-.12 | Monitoring and Reporting | 4/6/01 | 7/16/01; 66 FR 36921
Section 335-3-8-.13 | Individual Unit Opt-ins | 4/6/01 | 7/16/01; 66 FR 36921
Section 335-3-8-.14 | New Combustion Sources | 4/6/01 | 7/16/01; 66 FR 36921
Section 335-3-8-.16 | CAIR NOX Annual Budget Trading Program | 4/3/07 | 10/1/07; 72 FR 55659
Section 335-3-8-.17 | CAIR Designated Representative for CAIR NOX Sources | 4/3/07 | 10/1/07; 72 FR 55659
Section 335-3-8-.18 | CAIR Permits | 4/3/07 | 10/1/07; 72 FR 55659
Section 335-3-8-.20 | CAIR NOX Allowance Allocations | 4/3/07 | 10/1/07; 72 FR 55659
Section 335-3-8-.21 | CAIR NOX Allowance Tracking System | 4/3/07 | 10/1/07; 72 FR 55659
Section 335-3-8-.23 | CAIR Monitoring and Reporting | 4/3/07 | 10/1/07; 72 FR 55659
Section 335-3-8-.24 | CAIR NOX Opt-in Units | 04/3/07 | 10/1/07; 72 FR 55659
Section 335-3-8-.25 | CAIR NOX Ozone Season Trading Program | 4/3/07 | 10/1/07; 72 FR 55659
Section 335-3-8-.26 | CAIR Designated Representative for CAIR NOX Ozone Season Sources | 4/3/07 | 10/1/07; 72 FR 55659
Section 335-3-8-.27 | CAIR NOX Ozone Season Permits | 4/3/07 | 10/1/07; 72 FR 55659
Section 335-3-8-.29 | CAIR NOX Ozone Season Allowance Allocations | 4/3/07 | 10/1/07; 72 FR 55659
Section 335-3-8-.30 | CAIR NOX Ozone Season Allowance Tracking System | 4/3/07 | 10/1/07; 72 FR 55659
Section 335-3-8-.32 | CAIR NOX Ozone Season Monitoring and Reporting | 4/3/07 | 10/1/07; 72 FR 55659
Section 335-3-8-.33 | CAIR NOX Ozone Season Opt-in Units | 4/3/07 | 10/1/07; 72 FR 55659
Chapter No. 335-3-9 Control of Emissions from Motor Vehicles
Section 335-3-9-.01 | Visible Emission Restriction for Motor Vehicles | 10/15/96 | 6/6/97; 62 FR 30991
Section 335-3-9-.02 | Ignition System and Engine Speed | 8/10/00 | 12/8/00; 65 FR 76940
Section 335-3-9-.03 | Crankcase Ventilation Systems | 8/10/00 | 12/8/00; 65 FR 76940
Section 335-3-9-.04 | Exhaust Emission Control Systems | 6/22/89 | 3/19/90; 55 FR 10062
Section 335-3-9-.05 | Evaporative Loss Control Systems | 6/22/89 | 3/19/90; 55 FR 10062
Section 335-3-9-.06 | Other Prohibited Acts | 8/10/00 | 12/8/00; 65 FR 76940
Section 335-3-9-.07 | Effective Date | 10/15/96 | 6/6/97; 62 FR 30991
Chapter No. 335-3-12 Continuous Monitoring Requirements for Existing Sources
Section 335-3-12-.01 | General | 6/22/89 | 3/19/90; 55 FR 10062
Section 335-3-12-.02 | Emission Monitoring and Reporting Requirements | 2/17/98 | 9/14/98; 63 FR 49005
Section 335-3-12-.03 | Monitoring System Malfunction | 6/22/89 | 3/19/90; 55 FR 10062
Section 335-3-12-.04 | Alternate Monitoring and Reporting Requirements | 6/22/89 | 3/19/90; 55 FR 10062
Section 335-3-12-.05 | Exemptions and Extensions | 6/22/89 | 3/19/90; 55 FR 10062
Chapter No. 335-3-13 Control of Fluoride Emissions
Section 335-3-13-.01 | General | 10/15/96 | 6/6/97; 62 FR 30991
Section 335-3-13-.02 | Superphosphoric Acid Plants | 10/15/96 | 06/6/97; 62 FR 30991
Section 335-3-13-.03 | Diammonium Phosphate Plants | 10/15/96 | 6/6/97; 62 FR 30991
Section 335-3-13-.04 | Triple Superphosphoric Plants | 10/15/96 | 6/6/97; 62 FR 30991
Section 335-3-13-.05 | Granular Triple Superphosphoric Storage Facilities | 10/15/96 | 6/6/97; 62 FR 30991
Section 335-3-13-.06 | Wet Process Phosphoric Acid Plants | 10/15/96 | 6/6/97; 62 FR 30991
Chapter No. 335-3-14 Air Permits
Section 335-3-14-.01 | General Provisions | 2/17/98 | 9/14/98; 63 FR 49008
Section 335-3-14-.02 | Permit Procedures | 10/15/96 | 6/6/97; 62 FR 30991
Section 335-3-14-.03 | Standards for Granting Permits | 8/10/00 | 12/8/00; 65 FR 76940
Section 335-3-14-.04 | Air Permits Authorizing Construction in Clean Air Areas [:prevention of Significant Deterioration (PSD)] | 7/11/06 | 5/1/08; 73 FR 23957 | EPA is not approving Section 335-3-14-.04(2)(w)1.
Section 335-3-14-.05 | Air Permits Authorizing Construction in or Near Nonattainment Areas | 8/10/00 | 12/8/00; 65 FR 76940
Chapter No. 335-3-15 Synthetic Minor Operating Permits
Section 335-3-15-.01 | Definitions | 10/15/96 | 6/6/97; 62 FR 30991
Section 335-3-15-.02 | General Provisions | 8/10/00 | 12/8/00; 65 FR 76940
Section 335-3-15-.03 | Applicability | 11/23/93 | 10/20/94; 59 FR 52916
Section 335-3-15-.04 | Synthetic Minor Operating Permit Requirements | 10/15/96 | 6/6/97; 62 FR 30991
Section 335-3-15-.05 | Public Participation | 10/15/96 | 6/6/97; 62 FR 30991
Chapter No. 335-3-17 Conformity of Federal Actions to State Implementation Plans
Section 335-3-17-.01 | Transportation Conformity | 4/3/03 | 4/24/03; 68 FR 20075
Section 335-3-17-.02 | General Conformity | 3/27/98 | 5/11/00; 65 FR 30361
Chapter No. 335-3-20 Control of Fuels
Section 335-3-20-.01 | Definitions | 10/24/00 | 11/7/01; 66 FR 56219
Section 335-3-20-.02 | Control of Fuels | 10/24/00 | 11/7/01; 66 FR 56219
Section 335-3-20-.03 | Recordkeeping, Reporting, and Testing | 10/24/00 | 11/7/01; 66 FR 56219

* * * * *

(e) EPA Approved Alabama Non-Regulatory Provisions.

EPA Approved Alabama Non-Regulatory Provisions
Name of nonregulatory SIP provision | Applicable geographic or nonattainment area | State submittal date/effective date | EPA approval date | Explanation
Birmingham 1990 Baseline Emissions Inventory | Birmingham Ozone Nonattainment Area | 11/13/92 | 6/4/99; 64 FR 29961
Alabama Interagency Transportation Conformity Memorandum of Agreement |  | 1/20/00 | 5/11/00; 65 FR 30362
Alabama Fuel Waiver Request—Appendix II of Attainment Demonstration of the 1-hour NAAQS for Ozone for the Birmingham Nonattainment Area | Birmingham Ozone Nonattainment Area | 12/1/00 | 11/7/01; 66 FR 56220
Attainment Demonstration of the 1-hour NAAQS for Ozone for the Birmingham Nonattainment Area | Birmingham Ozone Nonattainment Area | 12/1/00 | 11/7/01; 66 FR 56224
Maintenance Plan for the Birmingham area | Jefferson County and Shelby County | 1/30/04 | 3/12/04; 69 FR 11800
8-Hour Ozone Maintenance plan for the Birmingham area | Jefferson County and Shelby County | 1/26/06 | 5/12/06

[FR Doc. E9-5732 Filed 3-17-09; 8:45 am]

BILLING CODE 6560-50-P